DEPARTMENT OF HEALTH AND HUMAN SERVICES

National Institutes of Health

National Institute of Diabetes and Digestive and Kidney Diseases; Amended Notice of Meeting

Notice is hereby given of a change in the meeting of the National Commission on Digestive Diseases, June 12, 2006, 9 a.m. to June 12, 2006, 5 p.m., Hilton Crystal City at National Airport, 2399 Jefferson Davis Hwy, (Route 1), Dewey Room, Tel. (703) 418-6800, Arlington, VA, 22202 which was published in the Federal Register on May 12, 2006, 71 FR 27738.

The meeting has been moved from the James to the Dewey Conference Room. The time, date, and hotel location of the meeting remains the same. The meeting is open to the public.

Dated: May 16, 2006.
Anna Snouffer,
Acting Director, Office of Federal Advisory Committee Policy.

[FR Doc. 06-4778 Filed 5-22-06; 8:45 am]

BILLING CODE 4140-01-M